DEPARTMENT OF ENERGY

Federal Energy Regulatory Commission

Notice of Membership of Performance Review Board

April 17, 2002.

The Federal Energy Regulatory Commission (Commission) hereby provides notice of the membership of its Performance Review Board (PRB). This action is undertaken in accordance with Title 5, U.S.C., Section 4314(c)(4). The Commission's PRB adds the following member: J. Mark Robinson

Magalie R. Salas,
Secretary.

[FR Doc. 02-9901 Filed 4-22-02; 8:45 am]

BILLING CODE 6717-01-P